DEPARTMENT OF THE INTERIOR

Minerals Management Service

30 CFR Part 250

RIN 1010-AC65

Oil and Gas and Sulphur Operations in the Outer Continental Shelf—Decommissioning Activities

AGENCY: Minerals Management Service (MMS), Interior.

ACTION: Proposed rule.

SUMMARY: This proposed rule would amend MMS regulations governing oil and gas operations in the Outer Continental Shelf (OCS) to update decommissioning requirements. The new layout of the rule follows the logical sequence of plugging a well, decommissioning the platform and pipeline, and clearing the lease site. The proposed rule also updates requirements to reflect changes in technology. We restructured the requirements to make the regulations easier to read and understand. The proposed technical changes will help ensure that lessees decommission facilities safely and effectively.

DATES: MMS will consider all comments received by October 5, 2000. We will begin reviewing comments at that time and may not fully consider comments we receive after October 5, 2000.

ADDRESSES: If you wish to comment, you may mail or hand-carry comments (three copies) to the Department of the Interior; Minerals Management Service; Mail Stop 4024; 381 Elden Street; Herndon, Virginia 20170-4817; Attention: Rules Processing Team (RPT). The RPT's e-mail address is: rules.comments@mms.gov.

Mail or hand-carry comments with respect to the information collection burden of the proposed rule to the Office of Information and Regulatory Affairs; Office of Management and Budget; Attention: Desk Officer for the Department of the Interior (OMB control number 1010-New); 725 17th Street, N.W., Washington, D.C. 20503.

FOR FURTHER INFORMATION CONTACT: Sharon Buffington, Engineering and Research Branch, at (703) 787-1147.

SUPPLEMENTARY INFORMATION: In recent years, decommissioning practices have received more attention, which has resulted in changes in technology and practices. In 1996, at the request of MMS, the Marine Board of the National Research Council (NRC) published a report titled “An Assessment of Techniques for Removing Offshore Structures.” On April 15-17, 1996, MMS convened an International Decommissioning Workshop in New Orleans, Louisiana, to discuss the recommendations in the NRC report and current decommissioning industry practices. The workshop drew over 475 attendees to discuss and make recommendations on OCS decommissioning operations. On August 8, 1996, MMS published a notice in the Federal Register (61 FR 41422) that requested comments on its plans to follow up on recommendations received at the workshop.

We also sponsored several other public workshops, including one in Ventura, California, on September 23-25, 1997. The purpose of the workshops was to continue the process of discussing decommissioning activities and to receive recommendations.

The regulations in this proposed rule were updated to incorporate the following into one subpart:

• Comments from decommissioning workshops;

• Comments from the NRC report;

• Comments from the annual regulatory reviews;

• Applicable Notices to Lessees (NTL);

• Lease document requirements pertaining to removals; and

• The MMS artificial reef policy.

We also support the recommendation from the NRC to require that lessees only install platforms that can be removed. We will be proposing this requirement in a future update of the platform installation requirements.

Research efforts are under way to determine out-of-service pipeline flushing requirements. We will incorporate the results of this research into future updates of pipeline flushing requirements. We also are working on research efforts to improve facility removal technology.

Format of the Proposed Rule

We have written this proposed rule in a plain-language format with frequently asked questions and short answers. We have tried to set out these requirements in a straightforward and uncomplicated manner. The plain-language format uses the terms “you” or “I,” which refers to the lessee, the owners of operating rights, and pipeline right-of-way owners. We encourage your comments on our use of the plain-language format in this proposed rule, as well as future rulemaking. We also encourage your comments on including all of the decommissioning requirements from 30 CFR part 250, subparts G, I, and J into new subpart Q (at the end of the current 30 CFR part 250 regulations). We received comments at decommissioning workshops that it was difficult to find our decommissioning requirements because they were listed in three subparts.

New Requirements

Although the focus of this proposed rule is on the plain-language rewrite, and the reorganizing of subpart G into new subpart Q, the rule does propose some new requirements. The following paragraphs identify and briefly discuss these proposed revisions. We welcome your comments on these proposed requirements.

Section 250.1700 What Do the Terms “Decommissioning” and “Obstructions” Mean?

Since we are using the new industry term of “decommissioning,” we have defined it. Also, we defined “obstructions” so that we would not need to repeat the list of items that should be removed unless MMS waives the removal requirement case-by-case.

Section 250.1704 When Must I Submit Decommissioning Applications?

We included a new requirement that in the Pacific OCS Region and Alaska OCS Region, a lessee must submit an initial decommissioning application at least 2 years before production ceases with the general information listed in § 250.1705. We are responding to an industry trend to plan decommissioning earlier. We encourage this practice because industry representatives have mentioned that it is the key to a “safe, conscious, and efficient decommissioning project.” Also, MMS will need the information so we can be involved with the review on the ground floor planning of the world-class platform removals anticipated to occur on the OCS. We only anticipate a few applications a year for these areas.

Section 250.1710 How Must I Permanently Plug Wells?

We put the requirements in tabular format and added more plugging options to update technology.

Section 250.1711 What Are the Requirements If I Temporarily Plug a Well That I Plan To Re-enter?

To ensure that temporarily abandoned wells are protected and to ensure that those wells do not become an obstruction, we included a requirement that subsea domes must be trawled over after they are installed.

Section 250.1713 When Might MMS Consider Approving an Alternate Removal Depth?

We listed the conditions under which MMS might waive the requirement to clear a well site to 15 feet below the mud line because we have received many questions and comments concerning this topic at decommissioning workshops. However, MMS still conducts a case-by-case analysis of each request. We also added the possibility of allowing an alternate removal depth (above the mud line) for wells in more than 800 meters of water.

Section 250.1714 What Must I Do To Clear a Well Site of Obstructions?

We added the guidance listed in the Gulf of Mexico (GOM) OCS Region NTL 98-26 for site clearance, which was effective on November 30, 1998, into this section.

We also removed the site clearance verification method that uses a diver search around the wellbore because it was infrequently used and not as successful as other methods.

Section 250.718 What Are the Requirements for Removing Platforms and Subsea Facilities?

To be consistent with lease stipulations, we clarified that within 1 year after a lease terminates, a lessee must remove all platforms and subsea facilities according to the approved final decommissioning application. However, a lessee may receive approval to maintain the facilities to conduct operations or a waiver to conserve the structure as an artificial reef.

We also clarified that a lessee must remove subsea facilities in addition to removing the platform, since many additional facilities are used for field development.

Section 250.1719 What Information Must I Include in My Final Platform Removal Application?

We included the guidance from the GOM OCS Region NTL 99-G21, dated September 13, 1999, to specify what information MMS needs in a platform removal application.

Section 250.1721 When Might MMS Consider Approving an Alternate Removal Depth?

We listed the conditions under which MMS might waive the requirement to clear a platform site to 15 feet below the mud line because we have received questions concerning this topic at decommissioning workshops. However, MMS still conducts a case-by-case analysis of each request.

Section 250.1722 What Is MMS' Policy on Converting a Platform or Other Facility to an Artificial Reef or Other Use?

Because we have received questions concerning MMS' policy on artificial reefs, and in response to a recommendation from the NRC, we propose to codify our policy on converting a platform to an artificial reef.

Section 250.1723 When Might MMS Approve Partial Structural Removals for Conversion to an Artificial Reef or Other Use?

We clarified the criteria that MMS uses to evaluate partial structure removals because we have received questions on the subject. We also added a requirement that the lessee must provide an unobstructed water column to respond to recommendations from the NRC.

Section 250.1726 What Are the Requirements for Removing a Pipeline?

We clarified the requirements concerning information to include in the pipeline decommissioning plan.

Derivation Table

The derivation table below shows where the proposed requirements originate from in the current regulations. The table also provides the section numbers that were used from 1988 up to mid-1998, when MMS assigned new section numbers to assist us in making regulatory updates (see 63 FR 29478, May 29, 1998).

Proposed new section | Current section | Previous number
250.1700 | New definitions | New definitions.
250.1701 | 250.700(b)(2) | 250.110(b)(2).
250.1702 | 250.700(b)(1) | 250.110(b)(1).
250.1703 | 250.700(a); 250.913(a) | 250.110(a); 250.143(a).
250.1704 | 250.701; 250.901(a); 250.1000(b) | 250.111; 250.131(a); 250.150(b).
250.1705 | New requirement | New requirement.
250.1706 | 250.700(a) | 250.110(a).
250.1707 | 250.700(a) | 250.110(a).
250.1708 | 250.700(a) | 250.110(a).
250.1709 | 250.701 | 250.111.
250.1710 | 250.702 | 250.112.
250.1711 | 250.703 | 250.113.
250.1712 | 250.702(i) | 250.112(i).
250.1713 | 250.702(i) | 250.112(i).
250.1714-1717 | 250.704; 250.913(c) | 250.114; 250.143(c).
250.1718 | 250.913(a) | 250.143(a).
250.1719 | 250.913(a) | 250.143(a).
250.1720 | 250.913(b) | 250.143(b).
250.1721 | 250.913(b) | 250.143(b).
250.1722 | New policy statement | New policy statement.
250.1723 | New policy statement | New policy statement.
250.1724 | 250.1006(a)(1) | 250.156(a)(1).
250.1725 | 250.1006(a)(1); 250.1007(c) | 250.156(a)(1); 250.157(c).
250.1726 | 250.1006(a)(2); 250.1007(c) | 250.156(a)(2); 250.157(c).

Procedural Matters

Public Comment Procedure: Our practice is to make comments, including names and home addresses of respondents, available for public review during regular business hours. Individual respondents may request that we withhold their home address from the rulemaking record, which we will honor to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Federalism (Executive Order 13132)

According to Executive Order 13132, this rule does not have Federalism implications. This rule does not substantially and directly affect the relationship between the Federal and State governments. The proposed rule revises existing operation regulations. It does not prevent any lessee, operator, or drilling contractor from performing operations on the OCS, provided they follow the regulations. This rule updates decommissioning requirements and will not impose costs on States or localities.

Regulatory Planning and Review (Executive Order 12866)

This document is not a significant rule and is not subject to review by the OMB under Executive Order 12866.

(1) This rule will not have an effect of $100 million or more on the economy. It will not adversely affect in a material way the economy, productivity, competition, jobs, the environment, public health or safety, or State, local, or tribal governments or communities. The new or expanded requirements are written in plain language and designed to ensure that lessees decommission facilities to protect the environment and minimize obstructions to other uses of the OCS. The economic effects of this rule will be minimal. Lessees planning decommissioning activities in the Pacific OCS Region and Alaska OCS Region would be required to plan these activities at least 2 years before production ceases and submit an initial decommissioning application. This will impact an estimated two lessees a year, as shown in Table 1. The yearly cost to submit an initial decommissioning plan is estimated at $1,000 per plan.

Table 1.—New Reporting Cost for the Initial Decommissioning Plan Submitted in the Pacific and Alaska OCS Regions
| Yearly cost @ $1,000 per report | Yearly lessees affected | Yearly plans submitted
Small Businesses | $1,000 | 1 | 1
Other Lessees | 1,000 | 1 | 1
Totals | 2,000 | 2 | 2

Also, lessees who use domes to protect temporarily abandoned wells would be required to trawl over those domes after they install them. We estimate the cost for trawling would be $3,000 for each of the 45 existing domes and $3,000 to trawl each of the 10 additional domes installed each year. We estimate that 30 lessees will be required to trawl the 45 existing domes, and 5 lessees will trawl the additional 10 domes each subsequent year as shown in Table 2 (located in the Regulatory Flexibility Act section). The total costs are shown in Table 3 (located in the Regulatory Flexibility Act section).

(2) This rule will not create a serious inconsistency or otherwise interfere with an action taken or planned by another agency. The new or expanded requirements are minimal and apply only to the OCS decommissioning activities.

(3) This rule does not alter the budgetary effects or entitlements, grants, user fees, or loan programs or the rights or obligations of their recipients. The new requirements and costs are minimal, and the main purpose of the rule is to write it in plain language.

(4) This rule does not raise novel legal or policy issues. The new requirements are based on the legal authority of the OCS Lands Act and other laws.

Clarity of This Regulation

Executive Order 12866 requires each agency to write regulations that are easy to understand. We invite your comments on how to make this proposed rule easier to understand, including answers to questions such as the following:

(1) Are the requirements in the rule clearly stated?

(2) Does the rule contain technical language or jargon that interfere with its clarity?

(3) Does the format of the rule (grouping and order of sections, use of headings, paragraphing, etc.) aid or reduce its clarity?

(4) Would the rule be easier to understand if it were divided into more (but shorter) sections?

(5) Is the description of the rule in the Supplementary Information section of this preamble helpful in understanding the rule? What else can we do to make the rule easier to understand?

Send a copy of any comments that concern how we could make this rule easier to understand to: Office of Regulatory Affairs, Department of the Interior, Room 7229, 1849 C Street, N.W., Washington, D.C. 20240. You may also e-mail the comments to this address: Exsec@ios.doi.gov.

Civil Justice Reform (Executive Order 12988)

According to Executive Order 12988, the Office of the Solicitor has determined that this rule does not unduly burden the judicial system and meets the requirements of §§ 3(a) and 3(b)(2) of the Order.

Unfunded Mandate Reform Act (UMRA) of 1995 (Executive Order 12866)

This rule does not impose an unfunded mandate on State, local, or tribal governments or the private sector of more than $100 million per year. This rule was mainly updated to include plain language and to give additional guidance. It contains very few new requirements, and it will not have a significant or unique effect on State, local, or tribal governments or the private sector. Therefore, a statement containing the information required by the UMRA (2 U.S.C. 1531 et seq.) is not required.

National Environmental Policy Act (NEPA) of 1969

This rule does not constitute a major Federal action significantly affecting the quality of the human environment. A detailed statement under the NEPA is not required.

Takings Implication Assessment

According to Executive Order 12630, the proposed rule does not represent a governmental action capable of interference with constitutionally protected property rights. The new requirements are minor and deal with minimizing obstructions to other uses of the OCS. Thus, a Takings Implication Assessment need not be prepared according to Executive Order 12630, Government Action and Interference with Constitutionally Protected Property Rights.

Regulatory Flexibility (RF) Act

The Department certifies that this proposed rule will not have a significant economic effect on a substantial number of small entities under the RF Act (5 U.S.C. 601 et seq.). The changes proposed in 30 CFR 250, subpart Q, will not have a significant economic effect on offshore lessees and operators, including those that are classified as small businesses. The Small Business Administration (SBA) defines a small business as having:

• Annual revenues of $5 million or less for exploration service and field service companies.

• Fewer than 500 employees for drilling companies and for companies that extract oil, gas, or natural gas liquids.

Under the Standard Industrial Classification (SIC), 1381, Drilling Oil and Gas Wells, MMS estimates that there is a total of 1,380 firms that drill oil and gas wells onshore and offshore. Of these, approximately 130 companies are offshore lessees/operators, based on current estimates. According to SBA estimates, 39 companies qualify as large firms, leaving 91 companies qualified as small firms with fewer than 500 employees.

Where there are some additional new or expanded reporting requirements in this rule, they do not impose extensive burdens. The cost to comply with the new requirements is a one-time cost of approximately $3,000 paid to a trawling organization to trawl over domes of temporarily abandoned wells in shallow water. The OCS has approximately 45 of these domes. In subsequent years, we predict that 10 new domes will be trawled over.

We estimate that 20 of the 30 lessees that will trawl over the 45 existing domes are small businesses and 3 out of the 5 lessees that will trawl over domes in subsequent years will be small businesses. The cost to the small businesses will be $60,000 the first year and $6,000 each subsequent year, as shown in Table 2. However, the fishing industry, another small business, will benefit by having less loss to their fishing equipment.

Table 2.—New Requirement Cost for Trawling
| First Year: Total cost @ $3000 per trawl | First Year: Lessees affected | First Year: Domes trawled | Subsequent Years: Total cost @ $3000 per trawl | Subsequent Years: Lessees affected | Subsequent Years: Domes trawled
Small Businesses | $60,000 | 20 | 20 | $9,000 | 3 | 3
Other Lessees | 75,000 | 10 | 25 | 6,000 | 2 | 2
Totals | 135,000 | 30 | 45 | 15,000 | 5 | 5

Table 3.—Total Costs for Both the New Plan and New Trawling Requirement
| First year: Total cost | First year: Lessees affected | First year: Domes trawled + plans submitted | Subsequent Years: Total cost | Subsequent Years: Lessees affected | Subsequent Years: Domes trawled + plans submitted
Small Businesses | $61,000 | 21 | 21 | $10,000 | 4 | 4
Other Lessees | 76,000 | 11 | 26 | 7,000 | 3 | 3
Totals | 137,000 | 32 | 47 | 17,000 | 7 | 7

Also, about 2 lessees per year in the Pacific OCS Region or Alaska OCS Region will need to submit an initial decommissioning plan for a cost of approximately $1,000 each as shown in Table 1 in the Regulatory Planning and Review section.

We estimate that one of these lessees will be a small business. These plans are necessary to ensure that early planning is occurring for these upcoming world-class decommissioning activities.

Based on these calculations, this rule has no significant economic impact on small entities.

Your comments are important. The Small Business and Agriculture Regulatory Enforcement Ombudsman and 10 Regional Fairness boards were established to receive comments from small businesses about Federal agency enforcement actions. The Ombudsman will annually evaluate the enforcement activities and rate each agency's responsiveness to small businesses. If you wish to comment on the enforcement actions of MMS, call toll-free (888) 734-3247.

Small Business Regulatory Enforcement Fairness Act (SBREFA)

This rule is not a major rule under the SBREFA (5 U.S.C. 804(2)). This rule:

(a) Does not have an annual effect on the economy of $100 million or more. The main purpose of this rule is to reorganize the requirements and write them in plain language. The new requirements are minimal and will only affect a few lessees.

(b) Will not cause a major increase in costs or prices for consumers, individual industries, Federal, State, or local government agencies, or geographic regions. The cost to comply with the new requirements is minor and will minimize conflicts with other uses of the OCS.

(c) Does not have a significant adverse effect on competition, employment, investment, productivity, innovation, or ability of U.S.-based enterprises to compete with foreign-based enterprises. The regulation contains a few new requirements that are not burdensome and ensure that decommissioning operations in the OCS are conducted properly.

Paperwork Reduction Act (PRA) of 1995

The proposed rule contains a collection of information that has been submitted to OMB for review and approval under § 3507(d) of the PRA. As part of our continuing effort to reduce paperwork and respondent burdens, MMS invites the public and other Federal agencies to comment on any aspect of the reporting and recordkeeping burden. You may submit your comments directly to the Office of Information and Regulatory Affairs, OMB. Send a copy of your comments to MMS. Refer to the “Addresses” section for mailing instructions.

The PRA provides that an agency may not conduct or sponsor and a person is not required to respond to a collection of information unless it displays a currently valid OMB control number. OMB is required to make a decision concerning the collection of information contained in these proposed regulations between 30 to 60 days after publication of this document in the Federal Register. Therefore, a comment to OMB is best assured of having its full effect if OMB receives it by August 7, 2000. This does not affect the deadline for the public to comment to MMS on the proposed regulations.

The title of the collection of information for this proposed rule is “Proposed Rulemaking—30 CFR 250, Subpart Q—Decommissioning Activities” (OMB control number 1010-NEW). Respondents include approximately 130 Federal OCS oil and gas or sulphur lessees. The frequency of response is on occasion or annually, depending upon the requirement. Responses to this collection of information are mandatory. MMS will protect proprietary information according to the Freedom of Information Act and 30 CFR 250.196, “Data and information to be made available to the public.”

This rulemaking consolidates information collection requirements on decommissioning from our current regulations in 30 CFR 250, subparts G, I, and J (approved under OMB control numbers 1010-0079, 1010-0058, and 1010-0050, respectively). These approved burdens will be correspondingly reduced when the new subpart Q regulations become final.

This rulemaking imposes only one new information collection burden. Section 250.1705 requires submission of an initial decommissioning plan in the Pacific OCS Region and Alaska OCS Region, which we estimate will require 20 burden hours per plan.

We estimate the total annual reporting “hour” burden for the proposed rule to be 3,222 hours, representing an average burden of 25 hours per respondent. There are no recordkeeping requirements. Following is a breakdown of this burden estimate.

Burden Breakdown
Citation 30 CFR 250 subpart Q | Requirement | Average number per year | Burden hours | Annual burden hours
1703; 1704 | Request approval for decommissioning | Burden included below |  | 0
1705 (New) | Submit initial decommissioning plan in the Pacific OCS and Alaska OCS Regions | 2 plans | 20 | 40
1709; 1711(g); 1712; 1713; 1714(b) | Submit form MMS-124 to plug wells; provide subsequent report; request alternate depth departure; request procedure to protect obstructions above seafloor; or certify area cleared of obstructions | Burden included under 1010-0045. |  | 0
1711(e), (d); 1717(b) | Identify and report subsea wellheads, casing stubs, or other obstructions; mark wells protected by a dome; mark location to be cleared as navigation hazard | U.S. Coast Guard requirement. |  | 0
1711(f) | Submit annual report on plans for re-entry to complete or permanently abandon the well. | 75 reports | 2 | 150
1714(a) | Request approval of well site clearance method | 125 requests | 4 | 500
1715; 1716; 1717(a), (g) | Verify facility and pipeline sites cleared of obstructions and submit certification letter | 120 verifications | 12 | 1,440
1718; 1719; 1720; 1721; 1723 | Submit final application to remove platform or other subsea facility structures (including alternate depth departure) or approval to maintain, to conduct other operations, or to conserve as artificial reef | 120 applications | 6 | 720
1722; 1723 | Artificial reef permitting and re-use plan | U.S. Army Corps of Engineers and NARP requirements. |  | 0
1724; 1725; 1726 | Submit application to decommission pipeline in place or remove pipeline | 186 applications | 2 | 372
Total Reporting |  | 628 responses |  | 3,222

MMS will summarize written responses to this notice and address them in the final rule preamble. All comments will become a matter of public record.

1. MMS specifically solicits comments on the following questions:

(a) Is the proposed collection of information necessary for MMS to properly perform its functions, and will it be useful?

(b) Are the estimates of the burden hours of the proposed collection reasonable?

(c) Do you have any suggestions that would enhance the quality, clarity, or usefulness of the information to be collected?

(d) Is there a way to minimize the information collection burden on those who are to respond, including the use of appropriate automated electronic, mechanical, or other forms of information technology?

2. In addition, the PRA requires agencies to estimate the total annual reporting and recordkeeping “non-hour cost” burden resulting from the collection of information. We have not identified any, and we solicit your comments on this item. For reporting and recordkeeping only, your response should split the cost estimate into two components: (a) Total capital and start-up cost component and (b) annual operation, maintenance, and purchase of services component. Your estimates should consider the costs to generate, maintain, and disclose or provide the information. You should describe the methods you use to estimate major cost factors, including system and technology acquisition, expected useful life of capital equipment, discount rate(s), and the period over which you incur costs. Capital and start-up costs include, among other items, computers and software you purchase to prepare for collecting information; monitoring, sampling, drilling, and testing equipment; and record storage facilities. Generally, your estimates should not include equipment or services purchased: before October 1, 1995; to comply with requirements not associated with the information collection; for reasons other than to provide information or keep records for the Government; or as part of customary and usual business or private practices.

List of Subjects in 30 CFR Part 250

Continental shelf, Environmental impact statements, Environmental protection, Government contracts, Incorporation by reference, Investigations, Mineral royalties, Oil and gas development and production, Oil and gas exploration, Oil and gas reserves, Penalties, Pipelines, Natural gas, Petroleum, Public lands—mineral resources, Public lands—rights-of-way, Reporting and recordkeeping requirements, Sulphur, Surety bonds.

Dated: June 22, 2000.
Sylvia V. Baca,
Assistant Secretary, Land and Minerals Management.

For the reasons stated in the preamble, MMS proposes to amend 30 CFR part 250 as follows:

PART 250—OIL AND GAS AND SULPHUR OPERATIONS IN THE OUTER CONTINENTAL SHELF

1. The authority citation for part 250 continues to read as follows:

Authority: 43 U.S.C. 1331, et seq.

Subpart G—[Removed and Reserved]

2. Subpart G (§§ 250.700-250.704) is removed and reserved.

Subpart I—Platforms and Structures

3. Section 250.913 is revised to read as follows:

§ 250.913 Platform removal and location clearance.

Refer to § 250.1714 through § 250.1723.

Subpart J—Pipelines and Pipeline Rights-of-Way

4. Section 250.1006 is revised to read as follows:

§ 250.1006 What are the requirements for taking a pipeline out of service?

If you take a pipeline out of service, you must:

(a) Blind flange or isolate the pipeline with a closed block valve at each end;

(b) Flush and fill with inhibited seawater any pipelines taken out of service for more than 1 year; and

(c) Return the pipeline to service within 5 years or decommission the pipeline according to § 250.1724 through § 250.1726.

§ 250.1007 [Amended]

5. In § 250.1007 paragraph (c) is removed.

6. Subpart Q is added to read as follows:

Subpart Q—Decommissioning Activities
General Requirements
Sec.
250.1700 What do the terms “decommissioning” and “obstructions” mean?
250.1701 Who must meet the obligations in this subpart?
250.1702 When do I accrue decommissioning obligations?
250.1703 What are the general requirements for decommissioning?
250.1704 When must I submit decommissioning applications?
250.1705 What information must I include in my initial platform removal application for the Pacific OCS Region or Alaska OCS Region?
Well Plugging Requirements
250.1706 Within what timeframe must I permanently plug all wells on a lease?
250.1707 When may MMS order me to permanently plug a well?
250.1708 What must I accomplish with well plugs?
250.1709 What information must I include to plug wells?
250.1710 How must I permanently plug wells?
250.1711 What are the requirements if I temporarily plug a well that I plan to re-enter?
250.1712 To what depth below the mud line must I clear a well site when it will no longer be used for oil, gas, or sulphur operations?
250.1713 When might MMS consider approving an alternate removal depth?
Site Clearance and Platform Decommissioning
250.1714 3What must I do to clear a well site of obstructions?
250.1715 What must I do to clear a facility of obstructions?
250.1716 What must I do to clear a buried pipeline of obstructions?
250.1717 What must I do to clear a trawling operation of obstructions?
250.1718 What are the requirements for removing platforms and subsea facilities?
250.1719 What information must I include in my final platform removal application?
250.1720 To what depth below the mud line must I remove a platform or other facility?
250.1721 When might MMS consider approving an alternate removal depth?
250.1722 What is MMS' policy on converting a platform or other facility to an artificial reef or other use?
250.1723 When might MMS approve partial structural removals for conversion to an artificial reef or other use?
Pipeline Decommissioning
250.1724 When may I decommission a pipeline in place?
250.1725 What are the requirements for decommissioning a pipeline in place?
250.1726 What are the requirements for removing a pipeline?

Authority: 43 U.S.C. 1331. et seq.

Subpart Q—Decommissioning Activities

General Requirements

§ 250.1700 What do the terms “decommissioning” and “obstructions” mean?

(a) Decommissioning means:

(1) Ending oil, gas, or sulphur operations; and

(2) Returning the lease or right-of-way to a condition that meets the requirements of regulations of MMS and other agencies that have jurisdiction over decommissioning activities.

(b) Obstructions are objects that were used in oil, gas, or sulphur operations and that, if left behind or abandoned in place, would hinder other users of the OCS. Obstructions include, but are not limited to, wellheads, casing stubs, mud line suspensions, subsea trees, jumper assemblies, umbilicals, manifolds, termination skids, production and export risers, platforms, templates, pilings, pipeline valves, and power cables (in the Pacific OCS Region).

§ 250.1701 Who must meet the obligations in this subpart?

The lessee, the owners of operating rights, and pipeline right-of-way owners are jointly and severally responsible for meeting the obligations as they accrue and until each obligation is met. In this subpart, the terms “you” and “I” refer to each lessee, owner of operating rights, and pipeline right-of-way owner.

§ 250.1702 When do I accrue decommissioning obligations?

You accrue the decommissioning obligations when you do any of the following:

(a) Drill a well;

(b) Install a platform, pipeline, or other facility;

(c) Create an obstruction to other users of the ocean;

(d) Become a lessee or the owner of operating rights of a lease on which there is a well that has not been plugged according to this subpart, a platform or other facility, or an obstruction; or

(e) Re-enter a well that was previously plugged according to this subpart.

§ 250.1703 What are the general requirements for decommissioning?

When the facilities are no longer useful for operations, you must:

(a) Get approval from the District Supervisor before decommissioning wells and from the Regional Supervisor before decommissioning facilities and pipelines;

(b) Squeeze or isolate all open perforations, plug all wellbores, sever all casings, and remove the wellhead;

(c) Remove all platforms and other facilities (including subsea equipment) to the depth required by § 250.1720 of this subpart;

(d) Decommission all pipelines; and

(e) Clear the seafloor of all obstructions created by lease and/or right-of-way operations.

§ 250.1704 When must I submit decommissioning applications?

You must submit decommissioning applications according to the following table.

Decommissioning Application Schedule
Decommissioning applications | When to submit | Instructions
(a) Initial platform removal application [not required in the Gulf of Mexico OCS Region] | In the Pacific OCS Region or Alaska OCS Region, submit the application to the Regional Supervisor at least 2 years before production ceases | Include information required under § 250.1705.
(b) Final platform removal application | Before removing a platform | Include information required under § 250.1719.
(c) Pipeline decommissioning application | Before you decommission the pipeline | Include information required under § 250.1725(a) or § 250.1726(a), as applicable.
(d) Form MMS-124, Sundry Notices and Reports on Wells | (1) Before you plug each well; and | (i) Include information required under § 250.1709(a).
| (2) Within 30 days after you plug a well | (i) Include information required under § 250.1709(b).

§ 250.1705 What information must I include in my initial platform removal application for the Pacific OCS Region or Alaska OCS Region?

You must include the following information in your initial platform removal application for the Pacific OCS Region or Alaska OCS Region:

(a) Platform or other facility removal procedures, including the types of vessels and equipment to be used;

(b) Facilities (including pipelines) you plan to remove or leave in place;

(c) Platform or other facility transportation and disposal plans;

(d) Plans to protect marine life and the environment during decommissioning operations, including a brief assessment of the environmental impacts of the operations, and procedures and mitigation measures that you will take to minimize the impacts;

(e) Projected decommissioning schedule; and

(f) The consistency of the proposed project with that described in the Development and Production Plan.

Well Plugging Requirements

§ 250.1706 Within what timeframe must I permanently plug all wells on a lease?

You must plug all wells within 1 year after the lease terminates.

§ 250.1707 When may MMS order me to permanently plug a well?

MMS may order you to permanently plug a well if that well:

(a) Poses a hazard to safety or the environment; or

(b) Is not useful for lease operations and is not capable of profitable oil, gas, or sulphur production.

§ 250.1708 What must I accomplish with well plugs?

You must ensure that all well plugs:

(a) Provide downhole isolation of hydrocarbon and sulphur zones;

(b) Protect freshwater aquifers; and

(c) Prevent migration of formation fluids within the wellbore or to the seafloor.

§ 250.1709 What information must I include to plug wells?

(a) Before you plug a well, you must submit the following information on form MMS-124 and receive approval:

(1) The reason you are plugging the well;

(2) Applicable well logs and test data;

(3) Maximum possible surface pressure, and how it was determined;

(4) Type and weight of well-control fluid you will use;

(5) A description of the work; and

(6) A current and proposed well schematic and description that include:

(i) Well depth;

(ii) All perforated intervals;

(iii) Casing and tubing depths and details;

(iv) Subsurface equipment;

(v) Estimated tops of cement (and the basis of the estimate) in each casing annulus;

(vi) Plug locations;

(vii) Plug types;

(viii) Plug lengths;

(ix) Mud and cement use;

(x) Perforating and casing cutting plans;

(xi) Plug testing plans;

(xii) Casing removal (including information on explosives, if used); and

(xiii) Proposed casing removal depth.

(b) Within 30 days after you plug a well, you must submit form MMS-124 (subsequent report) and include the following information:

(1) Information included in paragraph (a) of this section with a final well schematic;

(2) Description of the plugging work;

(3) Nature and quantities of material used in the plugs; and

(4) If you cut and pulled any casing string, you must include the following:

(i) A description of the methods used (including information on explosives, if used);

(ii) Size and amount of casing removed; and

(iii) Casing removal depth.

§ 250.1710 How must I permanently plug wells?

You must permanently plug wells according to the table in this section. The District Supervisor may require additional well plugs as necessary.

Permanent Well Plugging Requirements
If you have | Then you must use
(a) Zones in open hole | Cement plugs from at least 100′ below the bottom to 100′ above the top of oil, gas, and fresh-water zones to isolate fluids in the strata.
(b) Open hole | (1) Cement plugs, by the displacement method, at least 100′ above and below deepest casing shoe;
| (2) Cement retainers with effective back-pressure control 50′ to 100′ above the casing shoe and a cement plug to extend at least 100′ below the shoe and at least 50′ above the retainer; or
| (3) Bridge plugs 50′ to 100′ above the shoe with 50′ of cement on top of the bridge plug, for expected or known lost circulation conditions. You must test these plugs by one of the methods shown in paragraphs (k)(1) and (k)(2) of this section.
(c) Perforated zones that are currently open and not previously squeezed or isolated | (1) A squeeze method to cement; (2) Cement plugs, by the displacement method, at least 100′ above to 100′ below the perforated interval, or down to a casing plug, whichever is less. If the perforated zones are isolated from the hole below, you may use any of the plugs specified in paragraphs (c)(3) through (c)(7) of this section instead of those specified in paragraphs (c)(1) and (c)(2) of this section.
| (3) Cement retainers with effective back-pressure control 50′ to 100′ above the top of the perforations and a cement plug that extends at least 100′ below the bottom of the perforations with 50′ of cement above the retainer;
| (4) Bridge plugs set within 50′ to 100′ of top of the perforations and 50′ of cement on top of the bridge plug;
| (5) Cement plugs at least 200′ in length, set by the displacement method, with the bottom of the plug 100′ above the perforated interval;
| (6) Through-tubing basket plugs within 100′ of the perforated interval topped with 50′ of cement; or
| (7) Tubing plugs within 100′ of the perforated interval topped with 50′ of cement and a minimum of 300′ of cement in the tubing and casing immediately above the uppermost packer in the wellbore.
(d) Casing stubs where the stub ends within casing | (1) Cement plugs at least 100′ above and below the stub; (2) Cement retainers or permanent bridge plugs at least 50′ to 100′ above the stub and 100′ below with at least 50′ cement on top of the retainer; or
| (3) Cement plugs at least 200′ long with the bottom of the plug within 100′ above the stub.
(e) Casing stubs where the stub ends below the casing | Plugs specified in paragraph (a) or (b) of this section, as applicable.
(f) Annular space that communicates with an open hole and extends to the mud line | Cement plugs at least 200′ long in the annular space. For surface wells, pressure test each casing annulus to verify isolation.
(g) Subsea wells with unsealed annuli | A cutter to sever the casing and you must set a stub plug.
(h) Cement displacement plugs | Tags to verify the position of each plug.
(i) To set a surface plug (all wells except temporarily plugged wells) | A cement surface plug at least 150′ long in the smallest casing that extends to the mud line with the top of the plug within the first 150′ below the mud line.
(j) Permafrost areas | (1) A fluid to be left in the hole that has a freezing point below the temperature of the permafrost, and a treatment to inhibit corrosion; and
| (2) Cement plugs set before freezing and have a low heat of hydration.
(k) To test a plug (required for the first plug below the surface plug and/or lost circulation area plugs in open hole) | (1) A test to verify plug integrity with 15,000 pounds of pipe weight on the cement plug, cement retainer, or bridge plug; or (2) 1,000 pounds per square inch pump pressure with a result of 10 percent or less pressure drop during 15 minutes. The District Supervisor may require testing other plugs to prevent fluid migration.
(l) Fluid left in the hole | Fluid in the intervals between the plugs dense enough to exert a hydrostatic pressure that is greater than the respective formation pressures.

§ 250.1711 What are the requirements if I temporarily plug a well that I plan to re-enter?

You must do the following:

(a) Set plugs for permanently plugged wells listed in the table in § 250.1710; however, you do not need to sever the casings, remove the wellhead, or clear the site;

(b) Set a bridge plug or a cement plug at least 100 feet long at the base of the deepest casing string unless the casing string has been cemented and has not been drilled out. If a cement plug is set, it is not necessary for the cement plug to extend below the casing shoe into the open hole;

(c) Set a retrievable or a permanent-type bridge plug or a cement plug at least 100 feet long in the casing within the first 200 feet below the mud line;

(d) Identify and report subsea wellheads, casing stubs, or other obstructions that extend above the mud line according to U.S. Coast Guard (USCG) requirements;

(e) Mark wells protected by a dome in less than 100 feet of water with a buoy installed according to USCG requirements;

(f) Provide annual reports to the Regional Supervisor describing your plans for well re-entry to complete or to permanently plug; and

(g) Except in deep water areas or other locations where there are no commercial fishing activities, protect subsea wellheads, casing stubs, mud line suspensions, or other obstructions remaining above the seafloor to allow fishing gear to pass over the structure without damage to the structure or fishing gear by using one of the following or other procedure, as approved by the Regional or District Supervisor:

(1) A caisson designed according to § 250.906 and equipped with aids to navigation;

(2) A jacket designed according to § 250.906 and equipped with aids to navigation; or

(3) A subsea dome that does not extend more than 10 feet above the seafloor and over which you trawl when you install it and inspect annually.

§ 250.1712 To what depth below the mud line must I clear a well site when it will no longer be used for oil, gas, or sulphur operations?

Unless the District Supervisor approves an alternate depth, you must clear all wellheads and casings to at least 15 feet below the mud line.

§ 250.1713 When might MMS consider approving an alternate removal depth?

MMS may allow you to depart from the requirement for removing subsea wellheads and casings to 15 feet below the mud line when:

(a) The wellheads and casings would not become hazards to other users of the seafloor or area and geotechnical and other information you provide demonstrates that erosional processes capable of exposing the obstructions are not expected; or (b) The water depth is greater than 800 meters.

Site Clearance and Platform Decommissioning

§ 250.1714 What must I do to clear a well site of obstructions?

For each well site you must verify clearance and certify your verification.

(a) For wells, you must verify site clearance by one or more of the following methods as approved by the District Supervisor:

(1) Drag a trawl in a grid-like pattern across a 300-foot-radius circle centered on an exploration or delineation well drilled with a Mobile Offshore Drilling Unit;

(2) Scan across the location with a sonar search of at least 500 kHz frequency; or (3) Use other radii or methods based on particular site conditions.

(b) You must certify that the area was cleared of all obstructions and submit the following information on form MMS-124 within 30 days after you complete the verification activities:

(1) The date the work was performed;

(2) The extent of the area surveyed around the location; and (3) The survey method.

§ 250.1715 What must I do to clear a facility of obstructions?

To clear a facility of obstructions, you must comply with the Regional Supervisor's clearance requirements and, at minimum:

(a) Clear obstructions from:

(1) A 1,320-foot-radius circle centered on the geometric center of the facility; or (2) A 600-foot-radius circle centered on a single well caisson and well protectors.

(b) In less than a 300-foot water depth, trawl 100 percent of the limits described in paragraph (a) of this section in two directions, and in greater than a 300-foot water depth, scan across the location with a sonar of at least 500 kHz frequency;

§ 250.1716 What must I do to clear a buried pipeline of obstructions?

For buried active pipelines, you must trawl without any restrictions; however, you must contact the pipeline owner or operator to determine the condition of the pipelines to be trawled.

§ 250.1717 What must I do to clear a trawling operation of obstructions?

For trawling operations for both facilities and pipelines, you must do all of the following to clear obstructions:

(a) Complete site clearance verification to the specifications of the Regional Supervisor within 60 days after you complete the structure removal;

(b) Mark the location to be cleared as a hazard to navigation according to USCG requirements until you complete the site clearance procedures;

(c) Use a vessel to verify site clearance that is equipped with a navigational positioning system capable of providing position accuracy of ( ±30 feet and a calibrated navigation system;

(d) Use a trawling contractor with a valid commercial trawling license and no corporate or other financial ties to the company that performed the salvage work;

(e) Use a trawling net that is representative of those used in the commercial fishing industry and having a net strength equal to that provided by No. 18 twine;

(f) Not trawl closer than 300 feet to a shipwreck; and (g) Ensure that the company performing the location clearance sends a letter to the Regional Supervisor certifying it cleared the location of all obstructions. The company must send the letter within 30 days after site clearance is verified and must include the following information:

(1) The date the work was performed and the vessel involved;

(2) The extent of the area surveyed;

(3) The survey method used;

(4) The results of the survey, including a list of any debris removed or statement from the trawling contractor that no objects were recovered;

(5) A post-trawling job plot or map showing trawled area; and (6) An additional letter signed by an authorized lessee/operator company representative stating that they witnessed the trawling survey.

§ 250.1718 What are the requirements for removing platforms and subsea facilities?

(a) You must submit a final platform removal application to the Regional Supervisor with the information listed in § 250.1719 before removing a platform;

(b) You must remove all platforms and subsea facilities in a manner approved by the Regional Supervisor to ensure that the location has been cleared of all obstructions to other activities in the area;

(c) You must retrieve all mooring lines, anchors, and all related equipment that constitute an obstruction;

(d) You must remove subsea trees, jumper assemblies, umbilicals, manifolds, and termination skids in conjunction with well plugging activities;

(e) You must flush and remove all production and export risers with seawater from the seabed; and

(f) Within 1 year after lease termination or right-of-way relinquishment, you must remove all platforms and subsea facilities, including those listed in paragraphs (c) and (d) of this section, according to the approved final platform removal application. This paragraph does not apply if you receive either:

(1) Approval to maintain the platform and subsea facilities to conduct other operations; or

(2) A waiver to conserve the structure as an artificial reef.

§ 250.1719 What information must I include in my final platform removal application?

You must submit three copies of the final platform removal application if you are proposing to use explosives or two copies if you are not using explosives to the Regional Supervisor. Include all of the following information:

(a) Identification of the responsible party including:

(1) Lease operator/right-of-way holder;

(2) Address;

(3) Contact person and telephone number; and

(4) Shore base.

(b) Identification of the structure you are removing including:

(1) Platform Name/Complex ID Number;

(2) Location (lease/right-of-way, area, block, and block coordinates);

(3) Date installed (year);

(4) Proposed date of removal (Month/Year); and

(5) Water depth.

(c) Description of the structure you are removing including:

(1) Configuration (attach a photograph or a diagram);

(2) Size;

(3) Number of legs/casings/pilings;

(4) Diameter and wall thickness of legs/casings/pilings;

(5) Piles grouted inside or outside;

(6) Brief description of soil composition and condition;

(7) The sizes and weights of the jacket, topsides (by module), conductors, and pilings;

(8) The maximum removal lift weight and estimated number of main lifts to remove the structure; and

(9) A description of the vessel(s) that you will use to remove the structure.

(d) Identification of the purpose, including:

(1) Lease expiration/right-of-way relinquishment date; and

(2) Reason for removing the structure.

(e) A description of the removal method including:

(1) Brief description of the method to be used; and

(2) If you are using explosives, provide the following:

(i) Type of explosives;

(ii) Number and sizes of charges;

(iii) List whether you are using single shot or multiple shots;

(iv) If multiple shots, list sequence and timing of detonations;

(v) List whether you are using a bulk or shaped charge;

(vi) Depth of detonation below mud line; and

(vii) List whether you are placing the explosives inside or outside the pilings.

(3) If you will use divers or acoustic devices to conduct a pre-removal survey to detect the presence of turtle and marine mammals, describe the proposed detection method.

(4) A statement telling whether or not you will use transducers to measure the pressure and impulse of the detonations.

(5) A statement telling whether or not you will use divers to survey the area after removal to determine any effects on marine life.

(f) If available, provide the results of any recent biological surveys conducted in the vicinity of the structure and recent observations of turtles or marine mammals at the structure site.

§ 250.1720 To what depth below the mud line must I remove a platform or other facility?

Unless the Regional Supervisor approves an alternate removal depth, you must remove all platforms or other facilities (including templates, and pilings) to at least 15 feet below the mud line.

§ 250.1721 When might MMS consider approving an alternate removal depth?

The Regional Supervisor may approve an alternate removal depth if:

(a) The remaining structure or other facility would not become a hazard to other users of the seafloor or area and geotechnical and other information you provide demonstrates that erosional processes capable of exposing the obstructions are not expected; or

(b) The water depth is greater than 800 meters.

§ 250.1722 What is MMS' policy on converting a platform or other facility to an artificial reef or other use?

MMS supports and encourages the re-use of obsolete offshore petroleum structures as artificial reefs in U.S. waters.

(a) The structure must not pose an unreasonable impediment to existing facilities such as active pipelines or future mineral development.

(b) The re-use plan must comply with the artificial reef permitting requirements of the U.S. Corps of Engineers (Corps) and the criteria in the National Artificial Reef Plan (NARP).

(c) The state agency responsible for managing marine fisheries resources must accept title and liability for the structure before MMS will release the Federal lessee from obligations in the lease instrument.

(d) As appropriate, MMS may facilitate cooperation between Federal lessees, States, and other Federal agencies concerning the re-use of the structure. MMS will share information with others concerning the environmental, social, and economic consequence of re-using the structure.

§ 250.1723 When might MMS approve partial structural removals for conversion to an artificial reef or other use?

The Regional Supervisor may approve a partial structural removal if you meet all of the following conditions:

(a) The remaining structure becomes part of the NARP and the State agency responsible for managing marine fisheries resources acquires a Corps permit and accepts title and liability for the structure; and

(b) You provide an unobstructed water column above the structure sufficient to ensure safety of navigation.

Pipeline Decommissioning

§ 250.1724 When may I decommission a pipeline in place?

You may decommission a pipeline in place when the Regional Supervisor determines:

(a) The pipeline does not constitute a hazard to navigation and commercial fishing operations, unduly interfere with other uses of the OCS, or have adverse environmental effects; and

(b) Technical and environmental information shows that pipelines are not likely to interfere with other uses of the OCS.

§ 250.1725 What are the requirements for decommissioning a pipeline in place?

You must do the following to decommission a pipeline in place:

(a) Submit a pipeline decommissioning application in triplicate to the Regional Supervisor that includes the following information:

(1) Reason for the operation;

(2) Proposed procedures;

(3) Length (feet) of segment to be decommissioned; and

(4) Length (feet) of segment remaining.

(b) Pig the line, unless the Regional Supervisor determines that pigging is not practical;

(c) Flush the line;

(d) Fill the line with seawater;

(e) Cut and plug each end;

(f) Bury each end at least 3 feet below the seafloor or cover with protective concrete mats, if required by the Regional Supervisor;

(g) Remove all valves and other appurtenances that could unduly interfere with other uses of the OCS;

(h) Within 1 year after lease termination or right-of-way relinquishment, decommission the pipeline(s); and

(i) Remove a previously decommissioned pipeline if MMS subsequently determines that a pipeline is a hazard.

§ 250.1726 What are the requirements for removing a pipeline?

Before removing a pipeline, you must:

(a) Submit a pipeline removal application in triplicate to the Regional Supervisor that includes the following information:

(1) Proposed removal procedures, including the types of vessels and equipment to be used;

(2) Pipeline transportation and disposal plans;

(3) Plans to protect marine life and the environment during removal operations, including a brief assessment of the environmental impacts of the removal operations and procedures and mitigation measures that will be taken to minimize such impacts; and

(4) Projected removal schedule and duration.

(b) Pig the line, unless the Regional Supervisor determines that pigging is not practical; and

(c) Flush the line.

[FR Doc. 00-17032 Filed 7-6-00; 8:45 am]

BILLING CODE 4310-MR-P